FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 011453-004.

Title: Southern Africa/Oceania Agreement.

Parties: A.P. Moller-Maersk A/S; Mediterranean Shipping Co., S.A.; and Safmarine Container Lines N.V.

Filing Party: Wayne R. Rohde, Esquire, Sher & Blackwell, 1850 M Street, NW., Suite 900, Washington, DC 20036.

Synopsis: The proposed modification would increase the maximum size of vessels operated under the agreement, cap the monthly payments authorized by the agreement, delete certain extraneous material, and make a number of technical corrections. The modification also updates Maersk's corporate name.

Agreement No.: 011814-004.

Title: HSDG/King Ocean Space Charter Agreement.

Parties: Hamburg-Südamerikanische Dampfschifffahrts-Gesellschaft KG, King Ocean Services Limited, and King Ocean Service de Venezuela, S.A.

Filing Party: Wayne R. Rohde, Esq., Sher & Blackwell, 1850 M Street, NW., Suite 900, Washington, DC 20036.

Synopsis: The amendment revises the parties' slot allocations under the agreement.

Agreement No.: 011821-002.

Title: MSC/CMA CGM Space Charter Agreement.

Parties: CMA CGM, S.A. and Mediterranean Shipping Company, S.A.

Filing Party: Paul M. Keane, Esq., Cichanowicz, Callan, Keane, Vengrow & Textor, LLP, 61 Broadway, Suite 3000, New York, NY 10006-2802.

Synopsis: The amendment revises the minimum periods for which the agreement applies, changes the termination process and deletes outdated language.

Agreement No.: 011847-001.

Title: Pacific Gulf Express Agreement.

Parties: CMA CGM, S.A.; P&O Nedlloyd Limited; and P&O Nedlloyd B.V.

Filing Party: Neal M. Mayer, Esq., Hoppel, Mayer & Coleman, 1000 Connecticut Avenue, NW., Washington, DC 20036.

Synopsis: The amendment provides for specific additional slot sales to P&O Nedlloyd through September 30, 2005.

Agreement No.: 011891.

Title: Hapag-Lloyd/NYK Space Charter Agreement.

Parties: Hapag-Lloyd Container Linie GmbH and Nippon Yusen Kaisha.

Filing Party: David F. Smith, Esquire, Sher & Blackwell LLP, 1850 M Street, NW., Suite 900, Washington, DC 20036.

Synopsis: The proposed agreement would authorize the parties to operate a three-vessel service and share space in the trade between the U.S. East Coast and the East Coast of South America.

By Order of the Federal Maritime Commission.
Dated: November 5, 2004.
Bryant L. VanBrakle,
Secretary.

[FR Doc. 04-25138 Filed 11-10-04; 8:45 am]

BILLING CODE 6730-01-P